TENNESSEE VALLEY AUTHORITY

Sunshine Act Meeting; Notice

Agency Holding the Meeting: Tennessee Valley Authority (Meeting No. 1529).

Time and Date: 9 a.m. (CDT), April 18, 2001.

Place: Hopkinsville Community College Auditorium, 720 North Drive, Hopkinsville, Kentucky.

Status: Open.

Agenda

Approval of minutes of meeting held on March 28, 2001.

New Business

B—Purchase Award

B1. Contracts with CDI Information Technology Services and Zycron Computer Services, Inc., for information technology staff augmentation.

B2. Contract with Health International for services in connection with a health management program for active employees and non-Medicare eligible retirees who participate in TVA's self-insured medical plan.

C—Energy

C1. Supplement to Contract No. 99NNQ-251786-001 with Siemens Westinghouse Power Corporation for generator outage services to add high pressure turbine rotor work for Sequoyah Nuclear Plant Units 1 and 2.

C2. Contract with Lafayette Coal Company for coal supply to Gallatin Fossil Plant for one-year term.

C3. Supplement to Contract No. 79P66-143178-001 with Global Nuclear Fuel-Americas, LLC, to design, fabricate, and deliver nuclear fuel assemblies and perform fuel engineering analysis at Browns Ferry Nuclear Plant.

C4. Delegation of authority to the Chief Operating Officer, or a designee, to proceed with a power uprate project at Browns Ferry Nuclear Plant Units 2 and 3 and delegation of authority to the Senior Vice President, Procurement, or a designee, to extend Contract No. 92NNP-82068D-001 with General Electric Company through June 30, 2005, to cover the power uprate project's expected duration.

E—Real Property Transactions

E1. Public auction sale of approximately 4.73 acres of land on Chickamauga Reservoir in Hamilton County, Tennessee, Tract No. XSCCL-2, parcels 1, 2, and 3.

E2. Deed modification affecting approximately 1,000 square feet of former TVA land on Cherokee Reservoir in Hawkins County, Tennessee, a portion of Tract No. XCK-399.

E3. Deed modification affecting approximately 0.4 acre of former TVA land on Norris Reservoir in Campbell County, Tennessee, a portion of Tract No. XNR-588.

E4. Sale of a noncommercial, nonexclusive permanent easement affecting 0.761 acre of land on Tellico Reservoir in Monroe County, Tennessee, for the construction, operation, and maintenance of private water-use facilities, Tract No. XTELR-219RE.

E5. Abandonment of existing road easement rights affecting approximately 0.2 acre of former TVA land on Chickamauga Reservoir in Hamilton County, Tennessee, a portion of Tract No. XCR-381, in exchange for conveyance of replacement road easement.

Information Item

1. Approval of indemnification of non-TVA employee union representatives serving on the various joint health care committees.

For more information: Please call TVA Media Relations at (865) 632-6000, Knoxville, Tennessee. Information is also available at TVA's Washington Office (202) 898-2999. People who plan to attend the meeting and have special needs should call (865) 632-6000.

Dated: April 11, 2001.
Charles L. Young,
Assistant General Counsel and Assistant Secretary.

[FR Doc. 01-9545 Filed 4-12-01; 4:36 pm]

BILLING CODE 8120-08-M